DEPARTMENT OF HOMELAND SECURITY

Coast Guard

33 CFR Part 165

[Docket No. USCG-2011-0407]

Safety Zones; Annual Fireworks Events in the Captain of the Port Detroit Zone

AGENCY: Coast Guard, DHS.

ACTION: Notice of enforcement of regulation.

SUMMARY: The Coast Guard will enforce various safety zones for annual fireworks events in the Captain of the Port Detroit zone from 8:30 p.m. on June 23, 2011 through 11:30 p.m. on September 5, 2011. This action is necessary and intended to ensure safety of life on the navigable waters immediately prior to, during, and immediately after fireworks events. This rule will establish restrictions upon, and control movement of, vessels in a specified area immediately prior to, during, and immediately after fireworks events. During each enforcement period, no person or vessel may enter the respective safety zone without permission of the Captain of the Port.

DATES: The regulations in 33 CFR 165.941 will be enforced at various times between 8:30 p.m. on June 23, 2011 and 11:30 p.m. on September 5, 2011.

FOR FURTHER INFORMATION CONTACT: If you have questions on this notice, call or e-mail LT Katie Stanko, Prevention, U.S. Coast Guard Sector Detroit, 110 Mount Elliot Ave., Detroit, MI 48207; telephone (313)-568-9508, e-mail katie.r.stanko@uscg.mil.

SUPPLEMENTARY INFORMATION: The Coast Guard will enforce the following safety zones at the following dates and times:

Section 165.941(a)(30) Bay-Rama Fishfly Festival Fireworks, New Baltimore, MI

This safety zone will be enforced from 9:30 p.m. to 11:30 p.m. on June 23, 2011. In the case of inclement weather on June 23, 2011, this safety zone will be enforced from 9:30 p.m. to 11:30 p.m. on June 24, 2011.

Section 165.941(a)(35) City of Wyandotte Fireworks, Wyandotte, MI

This safety zone will be enforced from 10 p.m. to 11 p.m. on June 24, 2011.

Section 165.941(a)(40) St. Clair Shores Fireworks, St. Clair Shores, MI

This safety zone will be enforced from 9:30 p.m. to 11 p.m. on June 24, 2011. In the case of inclement weather on June 24, 2011, this safety zone will be enforced from 9:30 p.m. to 11 p.m. on June 25, 2011.

Section 165.941(a)(51) Target Fireworks, Detroit, MI

The first safety zone will be enforced from 7 a.m. on June 24, 2011 to 6 p.m. on June 27, 2011. In the event of inclement weather, the first safety zone will be enforced from 7 a.m. to 6 p.m. on June 28, 2011.

The second safety zone will be enforced from 5 p.m. on June 27, 2011 through 12:15 a.m. on June 28, 2011. In the event of inclement weather, the second safety zone will be enforced from 5 p.m. on June 28, 2011 to 12:15 a.m. on June 29, 2011.

The third safety zone will be enforced from 8 p.m. on June 27, 2011 through 12:15 a.m. on June 28, 2011. In the event of inclement weather, the third safety zone will be enforced from 8 p.m. on June 28, 2011 to 12:15 a.m. on June 29, 2011.

Section 165.941(a)(52) Sigma Gamma Fireworks, Grosse Pointe Farms, MI

This safety zone will be enforced from 9 p.m. to 10 p.m. on June 27, 2011.

Section 165.941(a)(54) Bay City Fireworks Festival, Bay City, MI

This safety zone will be enforced daily from 9:30 p.m. to 11:30 p.m. on June 30, 2011, July 1, 2011, and July 2, 2011. In the case of inclement weather on June 30, 2011, July 1, 2011, and July 2, 2011, this safety zone will be enforced from 9:30 p.m. to 11:30 p.m. on July 3, 2011.

Section 165.941(a)(8) Harrisville Fireworks, Harrisville, MI

This safety zone will be enforced from 8 p.m. to 11:30 p.m. on July 2, 2011. In the case of inclement weather on July 2, 2011, this safety zone will be enforced from 8 p.m. to 11:30 p.m. on July 3, 2011.

Section 165.941(a)(3) Au Gres City Fireworks, Au Gres, MI

This safety zone will be enforced from 9:30 p.m. to 11:15 p.m. on July 2, 2011. In the case of inclement weather on July 2, 2011, this safety zone will be enforced from 9:30 p.m. to 11:15 p.m. on July 3, 2011.

Section 165.941(a)(37) Caseville Fireworks, Caseville, MI

This safety zone will be enforced from 8 p.m. to 11:30 p.m. on July 3, 2011. In the case of inclement weather on July 3, 2011, this safety zone will be enforced from 8 p.m. to 11:30 p.m. on July 4, 2011.

Section 165.941(a)(45) Grosse Isle Yacht Club Fireworks, Grosse Isle, MI

This safety zone will be enforced from 9:45 p.m. to 10:45 p.m. on July 3, 2011.

Section 165.941(a)(43) Lexington Independence Festival Fireworks, Lexington, MI

This safety zone will be enforced from 9:30 p.m. to 11 p.m. on July 2, 2011. In the case of inclement weather on July 2, 2011, this safety zone will be enforced from 9:30 p.m. to 11 p.m. on July 3, 2011.

Section 165.941(a)(38) Algonac Pickerel Tournament Fireworks, Algonac, MI

This safety zone will be enforced from 9:30 p.m. to 11 p.m. on July 2, 2011. In the case of inclement weather on July 2, 2011, this safety zone will be enforced from 9:30 p.m. to 11 p.m. on July 3, 2011.

Section 165.941(a)(36) Grosse Pointe Farms Fireworks, Grosse Pointe Farms, MI

This safety zone will be enforced from 9:30 p.m. to 11 p.m. on July 2, 2011. In the case of inclement weather on July 2, 2011, this safety zone will be enforced from 9:30 p.m. to 11 p.m. on July 3, 2011.

Section 165.941(a)(47) Bell Maer Harbor 4th of July Fireworks, Harrison Township, MI

This safety zone will be enforced from 9:30 p.m. to 11 p.m. on July 3, 2011. In the case of inclement weather on July 3, 2011, this safety zone will be enforced from 9:30 p.m. to 11 p.m. on July 4, 2011.

Section 165.941(a)(32) City of St. Clair Fireworks, St. Clair, MI

This safety zone will be enforced from 9:30 p.m. to 11 p.m. on July 4, 2011. In the case of inclement weather on July 4, 2011, this safety zone will be enforced from 9:30 p.m. to 11 p.m. on July 5, 2011.

Section 165.941(a)(34) Port Austin Fireworks, Port Austin, MI

This safety zone will be enforced from 9:30 p.m. to 11 p.m. on July 4, 2011. In the case of inclement weather on July 4, 2011, this safety zone will be enforced from 9:30 p.m. to 11 p.m. on July 5, 2011.

Section 165.941(a)(46) Trenton Fireworks, Trenton, MI

This safety zone will be enforced from 10 p.m. to 11:30 p.m. on July 4, 2011. In the case of inclement weather on July 4, 2011, this safety zone will be enforced from 10 p.m. to 11:30 p.m. on July 5, 2011.

Section 165.941(a)(42) Grosse Pointe Yacht Club 4th of July Fireworks, Grosse Pointe Shores, MI

This safety zone will be enforced from 9:30 p.m. to 11 p.m. on July 4, 2011. In the case of inclement weather on July 4, 2011, this safety zone will be enforced from 9:30 p.m. to 11 p.m. on July 5, 2011.

Section 165.941(a)(10) Trenton Rotary Roar on the River Fireworks, Trenton, MI

This safety zone will be enforced from 9:30 p.m. until 11 p.m. on July 23, 2011.

Section 165.941(a)(14) Marine City Maritime Festival Fireworks, Marine City, MI

This safety zone will be enforced from 9:30 p.m. until 11 p.m. on August 13, 2011.

Section 165.941(a)(13) Detroit International Jazz Festival Fireworks, Detroit, MI

This safety zone will be enforced from 9:30 p.m. to 11:30 p.m. on September 3, 2011. In the case of inclement weather on September 3, 2011, this safety zone will be enforced from 9:30 p.m. to 11:30 p.m. on September 4, 2011. In the case of inclement weather on September 4, 2011, this safety zone will be enforced from 9:30 p.m. to 11:30 p.m. on September 5, 2011.

Under the provisions of 33 CFR 165.23, entry into, transiting, or anchoring within anyone of these safety zones during the enforcement period is prohibited unless authorized by the Captain of the Port Detroit or his designated representative. Vessels that wish to transit through the safety zones may request permission from the Captain of the Port Detroit. Requests must be made in advance and approved by the Captain of Port before transits will be authorized. Approvals will be granted on a case by case basis. The Captain of the Port may be contacted via U.S. Coast Guard Sector Detroit on channel 16, VHF-FM. The Coast Guard will give notice to the public via a Local Notice to Mariners that the regulation is in effect.

This notice is issued under authority of 33 CFR 165.23 and 5 U.S.C. 552(a). If the Captain of the Port determines that any of these safety zones need not be enforced for the full duration stated in this notice, he or she may use a Broadcast Notice to Mariners to grant general permission to enter the safety zone.

Dated: May 31, 2011.
E.J. Marohn,
Commander, U.S. Coast Guard, Acting Captain of the Port Detroit.

[FR Doc. 2011-14776 Filed 6-14-11; 8:45 am]

BILLING CODE 9110-04-P